DEPARTMENT OF LABOR

Agency Information Collection Activities; Occupational Exposure to Hazardous Chemicals in Laboratories

ACTION: Notice of availability; request for comments.

SUMMARY: The Department of Labor (DOL) is submitting this Occupational Safety & Health Administration (OSHA)-sponsored information collection request (ICR) to the Office of Management and Budget (OMB) for review and approval in accordance with the Paperwork Reduction Act of 1995 (PRA). Public comments on the ICR are invited.

DATES: The OMB will consider all written comments that the agency receives on or before July 14, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

The following sections describe who uses the information collected under each requirement, as well as how they use it. The purpose of these requirements is to reduce employees' risk of death or serious injury by ensuring that employment has been tested and is in safe operating condition.

The Standard entitled “Occupational Exposure to Hazardous Chemicals in Laboratories” (29 CFR 1910.1450; the “Standard”) applies to laboratories that use hazardous chemicals in accord with the Standard's definitions for “laboratory use of hazardous chemicals” and “laboratory scale.” The Standard requires these laboratories to maintain worker exposures at or below the permissible exposure limits specified for the hazardous chemicals in 29 CFR part 1910, subpart Z. The laboratories do so by developing a written Chemical Hygiene Plan (CHP) that describes the following: Standard operating procedures for using hazardous chemicals; hazard-control techniques; equipment-reliability measures; worker information and training programs; conditions under which the employer must approve operations, procedures, and activities before implementation; and medical consultations and examinations. The CHP also designates personnel responsible for implementing the CHP and specifies the procedures to be used to provide additional protection to workers exposed to particularly hazardous chemicals.

Other information collection requirements of the Standard include: Documenting exposure monitoring results; notifying workers in writing of these results; presenting specified information and training to workers; establishing a medical surveillance program for overexposed workers; providing required information to the physician; obtaining the physician's written opinion on using proper respiratory equipment; and establishing, maintaining, transferring, and disclosing exposure monitoring and medical records. These collection of information requirements, including the CHP, control worker overexposure to hazardous laboratory chemicals, thereby preventing serious illnesses and death among workers exposed to such chemicals. For additional substantive information about this ICR, see the related notice published in the Federal Register on March 28, 2022 (87 FR 17337).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OSHA.

Title of Collection: Occupational Exposure to Hazardous Chemicals in Laboratories.

OMB Control Number: 1218-0131.

Affected Public: Private Sector—Businesses or other for-profits.

Total Estimated Number of Respondents: 119,494.

Total Estimated Number of Responses: 1,697,968.

Total Estimated Annual Time Burden: 622,482 hours.

Total Estimated Annual Other Costs Burden: $83,566,611.

(Authority: 44 U.S.C. 3507(a)(1)(D))

Nicole Bouchet,
Senior PRA Analyst.

[FR Doc. 2022-12807 Filed 6-13-22; 8:45 am]

BILLING CODE 4510-26-P